ENVIRONMENTAL PROTECTION AGENCY

[ER-FRL-8589-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080445, ERP No. D-FTA-K59008-CA, Berkeley/Albany Ferry Terminal Study, Proposing to Implement New Ferry Service between Berkeley/Albany and the San Francisco Ferry Building, Funding, San Francisco Water Transit Authority (WETA), Berkeley/Albany, CA.

Summary: EPA expressed environmental concerns about biological resource and dredging impacts. Rating EC2.

Final EISs

EIS No. 20080438, ERP No. F-FHW-K50014-CA, Doyle Drive Project, South Access to the Golden Gate Bridge, Propose to Improve Seismic, Structural, and Traffic Safety, Presidio of San Francisco, San Francisco County Transportation Authority, Marin and San Francisco Counties, CA.

Summary: EPA continues to have environmental concerns about traffic and localized air quality impacts due to the scale and duration of construction activities.

EIS No. 20080476, ERP No. F-COE-G39047-00, White River Minimum Flow Study, To Provide an Improved Minimum Flow for the Benefit of the Tail Water Fishery, White River Basin Lakes: Bull Shoal Lakes on the White River; Norfork Lake on the North Fork White River, AR.

Summary: No formal comment letter was sent to the preparing agency.

EIS No. 20080482, ERP No. F-DOE-A09800-00, PROGRAMMATIC—Designation of Energy Corridors in 11 Western States, Preferred Location of Future Oil, Gas, and Hydrogen Pipelines and Electricity Transmission and Distribution Facilities on Federal Land, AZ, CA, CO, ID, MT, NV, NM, UT, WA, and WY.

Summary: While the final Programmatic EIS provided additional information on the interagency operating procedures (IOPs) and impacts to visual resources areas, EPA continues to have environmental concerns about the potential impacts to wetlands in the designated corridors.

EIS No. 20080483, ERP No. F-FHW-D40184-MO, MO-34 Improvement, from U.S. Routes 60/21 Intersection in Carter County to Routes 34/72 Intersection in Cape Girardeau County, Funding, U.S. Army COE Section 404 Permit, Carter, Bollinger, Reynolds, Wayne, and Cape Girardeau Counties, MO.

Summary: EPA does not object to the proposed action; however, we requested clarification on the number and length of jurisdictional streams.

EIS No. 20080490, ERP No. F-BPA-L91030-WA, Lyle Falls Fish Passage Project, To Improve Fish Passage to Habitat in the Upper Part of the Watershed, Located on the Lower Klickitat River, Klickitat County, WA.

Summary: The Final EIS adequately responded to our previous comments; therefore, EPA does not object to the preferred action.

EIS No. 20080493, ERP No. F-BLM-G65105-NM, Socorro Resource Management Plan Revision, Implementation, Socorro and Catron Counties, NM.

Summary: No formal comment letter was sent to the preparing agency.

EIS No. 20080500, ERP No. F-DHS-A10077-00, National Bio and Agro-Defense Facility, Preferred Alternative is (2) Manhattan Campus Site, Propose to Site, Construct and Operate at one of the Proposed Locations: (1) South Milledge Avenue Site, Clarke County, GA; (2) Manhattan Campus Site, Riley County, KS; (3) Flora Industrial Park Site, Madison County, MS; (4) Plum Island Site, Suffolk County, NY; (5) Umstead Research Park Site, Granville County, NC; and (6) Texas Research Park Site, Bexar and Medina Counties, TX.

Summary: No formal comment letter was sent to the preparing agency.

Dated: January 13, 2009.
Robert W. Hargrove,
Director, NEPA Compliance Division, Office of Federal Activities.

[FR Doc. E9-908 Filed 1-15-09; 8:45 am]

BILLING CODE 6560-50-P